NATIONAL AERONAUTICS AND SPACE ADMINISTRATION

[Notice 03-103]

Government-Owned Inventions, Available for Licensing

ACTION: Notice of availability of inventions for licensing.

SUMMARY: The inventions listed below are assigned to the National Aeronautics and Space Administration, have been filed in the United States Patent and Trademark Office, and are available for licensing.

DATES: September 15, 2003.

FOR FURTHER INFORMATION CONTACT: Rob M. Padilla, Patent Counsel, Ames Research Center, Mail Code 202A-4, Moffett Field, CA 94035-1000; telephone (650) 604-5104; fax (650) 604-2767.

NASA Case No. ARC-15040-1: Sub Auditory Speech Recognition Based On Electromyographic Signals;

NASA Case No. ARC-15088-1: Provision of Carbon Nanotube Bucky Paper Cages for Immune Shielding of Cells, Tissues, and Medical Devices.

Dated: September 8, 2003.
Robert M. Stephens,
Deputy General Counsel.

[FR Doc. 03-23490 Filed 9-12-03; 8:45 am]

BILLING CODE 7510-01-P